DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Evaluation of the Comprehensive Community Mental Health Services for Children and Their Families Program, Phase Two—(OMB No. 0930-0192, Revision)—SAMHSA's Center for Mental Health Services (CMHS) is conducting Phase II of this national evaluation project. Phase II collects data on child mental health outcomes, family life, and service system development and performance. Child and family outcomes of interest include the following: child symptomatology and functioning, family functioning and material resources, and caregiver strain. Delivery system variables of interest include the following: system of care development, adherence to system of care principles, coordination and linkages among agencies, and congruence between services planned versus those received.

To address the research questions in the national evaluation, a longitudinal quasi-experimental design is being used that includes data collection in all grantee sites and comparison sites (where services are delivered in a more traditional manner). This multi-level evaluation is comprised of several major components. Data collection methods include interviews with caregivers and youth, site visits, case record reviews, service diaries, and provider surveys.

Data collection for this evaluation will be conducted over a six year period. The length of time that families will participate in the study ranges from 18 to 36 months depending on when they enter the evaluation. The average annual respondent burden is estimated below; this represents an annual average burden reduction of 5,537 hours from the level currently approved by the Office of Management and Budget.

This revision to the currently approved data collection activities involves: (1) Reducing the number of sites where data collection will occur from 27 to 25, (2) extending the time frame for data collection by an additional 18 months, (3) adding a treatment effectiveness study in two sites including assessment of outcomes, treatment fidelity, and interaction of the treatment with the larger system of care, (4) adding a survey of clinicians/practitioners on their use of evidence-based treatments, and (5) adding a study of how systems of care are sustained after program funding ends.

Respondent | Number of respondents | Responses/ Respondent | Burden/ Response | Total burden hours
Caregiver | 5550 | .86 | 2.36 | 11,264
Youth | 3330 | .69 | 1.15 | 2,642
Provider | 1993 | .54 | .53 | 570
Total |  |  |  | 14,476

Send comments to Nancy Pearce, SAMHSA Reports Clearance Officer, Room 16-105, Parklawn Building, 5600 Fishers Lane, Rockville, MD 20857. Written comments should be received within 60 days of this notice.

Dated: January 22, 2002.
Richard Kopanda,
Executive Officer, SAMHSA.

[FR Doc. 02-2086 Filed 1-28-02; 8:45 am]

BILLING CODE 4162-20-P